DEPARTMENT OF COMMERCE

National Oceanic and Atmospheric Administration

RIN 0648-XH022

South Atlantic Fishery Management Council; Public Meetings

AGENCY: National Marine Fisheries Service (NMFS), National Oceanic and Atmospheric Administration (NOAA), Commerce.

ACTION: Notice of public meetings.

SUMMARY: The South Atlantic Fishery Management Council's will hold a meeting of its Habitat Protection and Ecosystem-Based Management Advisory Panel (AP).

DATES: The Habitat Protection and Ecosystem-Based Management AP meeting will take place May 21, 2019, from 9 a.m. to 4:30 p.m., and May 22, 2019, from 9 a.m. until 4:30 p.m.

ADDRESSES: Meeting address: The meeting will be held at Crowne Plaza, 4831 Tanger Outlet Blvd., Charleston, SC 29418; phone: (866) 358-6255 or (843) 744-4422.

Council address: South Atlantic Fishery Management Council, 4055 Faber Place Drive, Suite 201, N. Charleston, SC 29405.

FOR FURTHER INFORMATION CONTACT: Kim Iverson, Public Information Officer, SAFMC; phone: (843) 571-4366 or toll free (866) SAFMC-10; fax: (843) 769-4520; email: kim.iverson@safmc.net.

SUPPLEMENTARY INFORMATION:

The Habitat Protection and Ecosystem-Based Management AP meeting is open to the public and will be available via webinar as it occurs. Registration is required. Webinar registration information and other meeting materials will be posted to the Council's website at: http://safmc.net/safmc-meetings/current-advisory-panel-meetings/ as it becomes available.

The Habitat Protection and Ecosystem-Based Management AP meeting agenda includes the following: South Atlantic Deep Water Ecosystem Mapping/Characterization—2019 Activities; ecosystem considerations—prey supporting Dolphin Wahoo fisheries; the Council's Citizen Science Program; the Southeast Connectivity and Adaptation Strategy; State activities addressing climate resiliency; documenting occurrence and impacts of extreme weather events; energy development activities in the South Atlantic; regional fishery independent research update; NOAA Fisheries Ecosystem-Based Fishery Management activities for the South Atlantic region: Status and timelines for completion of deliverables supporting the Council's Fishery Ecosystem Plan (EFP) II; and the FEP II Implementation Plan—Two Year Roadmap. The AP meeting will include a lunch webinar on Anthropogenic Sound Sources—Pile Driving and Wind Turbines. The AP will also discuss applying innovative technologies to characterize fish habitat and spawning events; Southeast Coastal Ocean Observing Regional Association (SECOORA) Regional Coastal Ocean Observing Plan; and the South Atlantic Ecopath with Ecosim Model. The AP will develop recommendations as necessary for consideration by the Council's Habitat Protection and Ecosystem-Based Management Committee.

Special Accommodations

These meetings are physically accessible to people with disabilities. Requests for auxiliary aids should be directed to the Council office (see ADDRESSES) 3 days prior to the meeting.

Note: The times and sequence specified in this agenda are subject to change.

Authority: 16 U.S.C. 1801 et seq.

Dated: May 1, 2019.
Tracey L. Thompson,
Acting Deputy Director, Office of Sustainable Fisheries, National Marine Fisheries Service.

[FR Doc. 2019-09191 Filed 5-3-19; 8:45 am]

BILLING CODE 3510-22-P